EQUAL EMPLOYMENT OPPORTUNITY COMMISSION

Meeting, Sunshine Act

Date and Time: Thursday, April 21, 2005, a.m. eastern time.

Place: Clarence M. Mitchell, Jr. Conference Room on the Ninth Floor of the EEOC Office Building, 1801 “L” Street, NW., Washington, DC 20507.

Status: Part of the meeting will be open to the public and part of the meeting will be closed.

Matters to be Considered:

Open Session

1. Announcement of Notation Votes.

2. Renewal of LexisNexis Subscription Services.

3. Renewal of Westlaw and West Publishing Subscriptions.

4. Oracle License Maintenance Agreement.

5. Competitive Lease Contract for New Mail Machine Systems.

Closed Session

Litigation Authorization: General Counsel Recommendations.

Note: In accordance with the Sunshine Act, the open session of the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

Contact Person for More Information: Stephen Llewellyn, Acting Executive Officer on (202) 663-4070.

This notice issued April 11, 2005.
Stephen Llewellyn,
Acting Executive Officer, Executive Secretariat.

[FR Doc. 05-7537 Filed 4-11-05; 8:45 am]

BILLING CODE 6750-06-M